DEPARTMENT OF JUSTICE

Notice of Lodging Proposed Consent Decree

In accordance with Departmental Policy, 28 CFR 50.7, notice is hereby given that a proposed Consent Decree in United States v. Black Tea Oil, LLC, et al., Case No. 2:17-cv-02030, was lodged with the United States District Court for the District of Kansas on November 6, 2017.

This proposed Consent Decree concerns a complaint filed by the United States against Black Tea Oil, LLC and Christopher C. Leiker, pursuant to 33 U.S.C. 1319(b) and (d), to obtain injunctive relief from and impose civil penalties against the Defendants for violating the Clean Water Act by discharging pollutants without a permit into waters of the United States. The proposed Consent Decree resolves these allegations by requiring the Defendants to restore the impacted areas and to pay a civil penalty.

The Department of Justice will accept written comments relating to this proposed Consent Decree for thirty (30) days from the date of publication of this Notice. Please address comments to Phillip R. Dupré, Trial Attorney, United States Department of Justice, Environment and Natural Resources Division, Environmental Defense Section, Post Office Box 7611, Washington, DC 20044, and refer to United States v. Black Tea Oil, LLC, et al., DJ #90-5-1-1-20653.

The proposed Consent Decree may be examined at the Clerk's Office, United States District Court for the District of Kansas, 500 State Avenue, Kansas City, KS 66101. In addition, the proposed Consent Decree may be examined electronically at http://www.justice.gov/enrd/consent-decrees.

Cherie L. Rogers,
Assistant Section Chief, Environmental Defense Section, Environment and Natural Resources Division.

[FR Doc. 2017-24461 Filed 11-9-17; 8:45 am]

BILLING CODE 4410-15-P